DEPARTMENT OF ENERGY

National Commission on the BP Deepwater Horizon Oil Spill and Offshore Drilling; Correction

AGENCY: Office of Fossil Energy, Department of Energy.

ACTION: Notice of open meeting; correction.

SUMMARY: On June 30, 2010, the Department of Energy published a notice announcing an open meeting on July 12 and 13, 2010, of the National Commission on the BP Deepwater Horizon Oil Spill and Offshore Drilling, (75 FR 37783). This document makes several corrections to that notice.

FOR FURTHER INFORMATION CONTACT: Christopher A. Smith, (202) 586-0716.

Corrections

In the Federal Register of June 30, 2010, in FR Doc. 2010-15985, on page 37783, please make the following corrections:

Under FOR FURTHER INFORMATION CONTACT, middle column, and the third column, first paragraph, the e-mail address is listed incorrectly. The correct e-mail address is BPDeepwaterHorizonCommission@hq.doe.gov.

Under Tentative Agenda, middle column, it was indicated that the meeting is expected to start on July 12 at 9 a.m. and July 13 at 9 a.m. The correct information is that on-site registration for those who want to attend the meeting opens at 7 a.m. each day. Attendees must register on-site each morning of the meeting. Seats are limited and public attendees will be taken on a first come, first serve basis. Under Public Participation, middle column, it was indicated that registration for public comments will begin at 9 a.m. on July 12 for those wishing to speak on July 12 and 9 a.m. on July 13 for those wishing to speak on July 13. Those times have been changed. Registration for public comments opens at 7 a.m. each day and is also on a first come, first serve basis. Information on the Commission can be found at its Web site: http://www.oilspillcommission.gov.

Issued in Washington, DC, on July 6, 2010.
Carol A. Matthews,
Committee Management Officer.

[FR Doc. 2010-16848 Filed 7-6-10; 4:15 pm]

BILLING CODE 6450-01-P